DEPARTMENT OF ENERGY

Federal Energy Regulatory Commission

Supplemental Notice of Meeting

September 27, 2010.

On September 15, 2010, the Commission provided notice that a meeting will be held to present the results of the cost benefit analysis conducted by Charles River Associates and Resero Consulting to study the effects of Entergy Services, Inc. and Cleco Power joining the Southwest Power Pool regional transmission organization. As stated in the September 15 notice, the meeting will be held on September 30, 2010 from 9 a.m. to 12 p.m. at the following address:

Astor Crowne Plaza, 739 Canal Street, New Orleans, LA 70130, 504-962-0500.

The attached agenda provides details on the topics that will be discussed at the meeting. Those wishing to attend the meeting by teleconference may do so using dial-in number (877) 932-5833 and passcode 157403.

For further information about this meeting, please contact:

Patrick Clarey, Office of Energy Market Regulation, Federal Energy Regulatory Commission, 888 First Street, NE., Washington, DC 20426, (317) 249-5937, patrick.clarey@ferc.gov.

Doug Roe, Office of Energy Market Regulation, Federal Energy Regulatory Commission, 888 First Street, NE., Washington, DC 20426, (202) 502-6566, douglas.roe@ferc.gov.

Kimberly D. Bose,
Secretary.

Final Presentation on the Cost Benefit Analysis Conducted by Charles River Associates and Resero Consulting To Study the Effects of Entergy Services, Inc. and Cleco Power Joining the Southwest Power Pool Regional Transmission Organization

Agenda

9 a.m. to 9:15 a.m.—Introductions & Overview of Agenda

9:15 a.m. to 9:45 a.m.—Opening Statements

9:50 a.m. to 10 a.m.—Overview of Study History & Process

10 a.m. to 10:10 a.m.—Break

10:10 a.m. to 11:20 a.m.—Final Results Presentation

11:20 a.m. to 11:30 a.m.—Next Steps

11:30 a.m. to 12 p.m.—Question and Answer Session

12 p.m.—Meeting Adjourned

[FR Doc. 2010-24946 Filed 10-4-10; 8:45 am]

BILLING CODE 6717-01-P